AGENCY FOR INTERNATIONAL DEVELOPMENT

Advisory Committee on Voluntary Foreign Aid; Notice of the Re-Establishment of the Advisory Committee and Upcoming Meeting

Pursuant to the Federal Advisory Committee Act, notice is hereby given of the re-establishment of the Advisory Committee on Voluntary Foreign Aid (ACVFA).

ACVFA brings together officials from the U.S. Agency for International Development (USAID) and private voluntary organizations (PVOs), representatives from universities, international non-governmental organizations (NGOs), U.S. businesses, and multilateral and private organizations to foster understanding, communication and cooperation in the area of foreign aid. The Administrator of USAID is re-establishing the Committee for two years, effective on the date of the filing of its renewed Charter.

Pursuant to the Federal Advisory Committee Act, notice is also given of a public meeting of ACVFA:

Date: Monday, May 20, 2019.

Time: 2:00-4:00 p.m.

Location: Center for Strategic and International Studies (CSIS), 1616 Rhode Island Avenues NW, Washington, DC 20036.

USAID's leadership will make opening remarks, followed by a presentation and discussion on the importance of the Agency's work in democracy, rights, and governance, and the principles and operations the Agency is considering to support programming in closed and closing spaces. The full meeting agenda will be forthcoming on the ACVFA website, at: http://www.usaid.gov/who-we-are/organization/advisory-committee. The meeting is free and open to the public.

For further information, please contact Victoria Whitney, at vwhitney@usaid.gov or 202-712-1977. Interested persons may write to her in care of the Office of the Administrator of USAID, at 1300 Pennsylvania Avenue NW, Washington, DC 20523-2110.

Tyrone Brown,
Senior Policy Analyst, Bureau for Management, USAID, U.S. Agency for International Development.

[FR Doc. 2019-07864 Filed 4-18-19; 8:45 am]

BILLING CODE P